DEPARTMENT OF THE INTERIOR

National Park Service

[NPS-WASO-NAGPRA-NPS0030602; PPWOCRADN0-PCU00RP14.R50000]

Notice of Inventory Completion: Bruce Museum, Inc., Greenwich, CT

AGENCY: National Park Service, Interior.

ACTION: Notice.

SUMMARY: The Bruce Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Bruce Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Bruce Museum at the address in this notice by September 10, 2020.

ADDRESSES: Kirsten J. Reinhardt, NAGPRA Coordinator, Bruce Museum Inc., 1 Museum Drive, Greenwich, CT 06830, telephone (203) 413-6770, email kreinhardt@brucemuseum.org.

SUPPLEMENTARY INFORMATION: Notice is here given in accordance with the Native American Graves Protection and Repatriation Act (NAGPRA), 25 U.S.C. 3003, of the completion of an inventory of human remains and associated funerary objects under the control of the Bruce Museum Inc., Greenwich, CT. The human remains and associated funerary objects were removed from Terra Ceia Bay Shore Site, Manatee County, FL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Bruce Museum professional staff in consultation with representatives of the Miccosukee Tribe of Indians and the Seminole Tribe of Florida (previously listed as Seminole Tribe of Florida (Dania, Big Cypress, Brighton, Hollywood & Tampa Reservations)).

History and Description of the Remains

In 1894-95, human remains representing, at minimum, one individual were removed from a site on the eastern shore of Terra Ceia Bay, across from Terra Ceia Island, in present-day Palm View, Manatee County, FL. Edward S. Hubbard, founder of the East Coast Railroad, collected the human remains, and Wilbur F. Smith, of Norwalk, CT, collected the associated funerary objects. In 1937, Hubbard transferred the human remains to Smith, and in 1938, Smith donated the human remains to the Bruce Museum. Smith transferred the associated funerary objects to the Bruce Museum through donations in 1938 and 1940. In a 1937 letter to Bruce Museum curator Paul G. Howes, Smith described the site as a burial mound about twenty feet across and four feet high, which had been constructed with pure white sand that must have been imported from miles away, as there was no similar sand in the vicinity. Smith also wrote, “From my study the mound was one of the Calusa Indians, the tribe that inhabited the Tampa Bay region and were very numerous at the time the Spaniards discovered the country in the middle 1500s and later exterminated the Indians.” The mound was leveled when the land was made part of the Palm View development during the “Florida Boom.”

The human remains were determined to be Native American by Connecticut State Archaeologist, Nicholas Bellantoni, who performed a skeletal and dentition analysis on October 25, 1995, together with Ed Sarabia, Tlingit, Indian Affairs Coordinator, Connecticut Commission on Indian Affairs. The human remains are comprised of a cranium belonging to a female 20-30 years old, based on dentition. Parts of the right condial, left coronoid process, and left and right zygomatic arches were restored with red “Marblex,” and the mandible was reconstructed and reattached to the restored skull at the Bruce Museum in 1938, by curator Paul G. Howes. No known individual was identified. The 20 associated funerary objects are four strands of glass beads of various color and shape; one strand of brown and white puka shell beads; four loose blue glass beads; one large clear, faceted glass bead; one large black, faceted button; one single slot brass bell; and eight pottery sherds.

The exact date or period associated with the site is unknown, as few reliable temporal indictors were recovered or recorded. Nonetheless, the presence of European trade goods, St. Johns Checked pottery, and Safety Harbor Incised pottery suggests a Woodland/Mississippian-into-early Historic designation.

Geographical, archeological, historical, and legal information, in addition to the known historical presence of the Seminole Tribe of Florida in the area encompassing the State of Florida, support a relationship of shared group identity which can be reasonably traced between the present-day Seminole Tribe of Florida and the pre-contact tribes who established tribal towns recorded by European explorers in the region of present-day Manatee and Seminole Counties.

Determinations Made by the Bruce Museum, Inc.

Officials of the Bruce Museum, Inc. have determined that:

• Pursuant to 25 U.S.C. 3001(9), the human remains described in this notice represent the physical remains of one individual of Native American ancestry.

• Pursuant to 25 U.S.C. 3001(3)(A), the 20 objects described in this notice are reasonably believed to have been placed with or near individual human remains at the time of death or later as part of the death rite or ceremony.

• Pursuant to 25 U.S.C. 3001(2), there is a relationship of shared group identity that can be reasonably traced between the Native American human remains and associated funerary objects and the Seminole Tribe of Florida (previously listed as Seminole Tribe of Florida (Dania, Big Cypress, Brighton, Hollywood & Tampa Reservations).

Additional Requestors and Disposition

Lineal descendants or representatives of any Indian Tribe or Native Hawaiian organization not identified in this notice that wish to request transfer of control of these human remains and associated funerary objects should submit a written request with information in support of the request to Kirsten J. Reinhardt, NAGPRA Coordinator, Bruce Museum Inc., 1 Museum Drive, Greenwich, CT 06830, telephone (203) 413-6770, email kreinhardt@brucemuseum.org, by September 10, 2020. After that date, if no additional requestors have come forward, transfer of control of the human remains and associated funerary objects to the Seminole Tribe of Florida (previously listed as Seminole Tribe of Florida (Dania, Big Cypress, Brighton, Hollywood & Tampa Reservations)) may proceed.

The Bruce Museum, Inc. is responsible for notifying the Miccosukee Tribe of Indians and the Seminole Tribe of Florida (previously listed as Seminole Tribe of Florida (Dania, Big Cypress, Brighton, Hollywood & Tampa Reservations)) that this notice has been published.

Dated: July 7, 2020.
Melanie O'Brien,
Manager, National NAGPRA Program.

[FR Doc. 2020-17489 Filed 8-10-20; 8:45 am]

BILLING CODE 4312-52-P